NATIONAL TRANSPORTATION SAFETY BOARD

Sunshine Act Meeting

TIME AND DATE: 9:30 a.m., Wednesday, September 9, 2015.

PLACE: NTSB Conference Center, 429 L'Enfant Plaza SW., Washington, DC 20594.

STATUS: The one item is open to the public.

MATTERS TO BE CONSIDERED:

8721 Aircraft Accident Report—Runway Overrun During Rejected Takeoff, Gulfstream Aerospace Corporation G-IV, N121JM, Bedford, Massachusetts, May 31, 2014, and Safety Alert—Flight Control Locks: Overlooking the Obvious.

News Media Contact: Telephone: (202) 314-6100.

The press and public may enter the NTSB Conference Center one hour prior to the meeting for set up and seating.

Individuals requesting specific accommodations should contact Rochelle Hall at (202) 314-6305 or by email at Rochelle.Hall@ntsb.gov by Wednesday, September 2, 2015.

The public may view the meeting via a live or archived webcast by accessing a link under “News & Events” on the NTSB home page at www.ntsb.gov.

Schedule updates, including weather-related cancellations, are also available at www.ntsb.gov.

FOR FURTHER INFORMATION CONTACT: Candi Bing at (202) 314-6403 or by email at bingc@ntsb.gov.

For Media Information Contact: Peter Knudson at (202) 314-6100 or by email at peter.knudson@ntsb.gov.

Dated: Friday, August 21, 2015.
Candi R. Bing,
Federal Register Liaison Officer.

[FR Doc. 2015-21073 Filed 8-21-15; 11:15 am]

BILLING CODE 7533-01-P